DEPARTMENT OF ENERGY

Federal Energy Regulatory Commission

[Docket No. RP02-118-007]

High Island Offshore System, L.L.C.; Notice of Negotiated Rrate Filing

September 5, 2003.

Take notice that on September 2, 2003, High Island Offshore System, L.L.C. (HIOS), tendered for filing (1) a Gas Transportation Agreement between HIOS and Superior Natural Gas Corporation (Superior) pursuant to HIOS* Rate Schedule IT (IT Service Agreement); (2) a Negotiated Rate Letter Agreement between HIOS and Superior dated September 15, 2003 (Negotiated Rate Letter Agreement), and a Reserve Commitment Agreement between HIOS and Walter Oil & Gas Corporation (Walter) dated August 22, 2003 (Reserve Commitment Agreement).

HIOS states that the filed IT Service Agreement, and Negotiated Rate Letter Agreement and Reserve Commitment Agreement reflect a negotiated rate arrangement between HIOS and Superior that will become effective on September 15, 2003 (Negotiated Rate Arrangement).

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary* (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 15, 2003.

Magalie R. Salas,
Secretary

[FR Doc. 03-23379 Filed 9-12-03; 8:45 am]

BILLING CODE 6717-01-P